NATIONAL AERONAUTICS AND SPACE ADMINISTRATION

[Notice (10-037)]

NASA Advisory Council; Technology and Innovation Committee; Meeting.

AGENCY: National Aeronautics and Space Administration.

ACTION: Notice of meeting.

SUMMARY: The National Aeronautics and Space Administration (NASA) announces a meeting of the Technology and Innovation Committee of the NASA Advisory Council (NAC). The Meeting will be held for the purpose of reviewing the Space Technology Program planning.

DATES: Thursday, April 22, 2010, 8:30 a.m. to 4:30 p.m. EDT.

ADDRESSES: NASA Headquarters, 300 E Street, SW., Room MIC-7 (7H45), Washington, DC 20546.

FOR FURTHER INFORMATION CONTACT: Ms. Evelyn Diaz, Office of the Chief Technologist, NASA Headquarters, Washington, DC 20546, (202) 358-0728, fax (202) 358-4078, or evelyn.diaz-1@nasa.gov.

SUPPLEMENTARY INFORMATION: The meeting will be open to the public up to the capacity of the room. The agenda for the meeting includes the following topics:

—Office of the Chief Technologist Update

—Space Technology Program Update

It is imperative that the meeting be held on these dates to accommodate the scheduling priorities of the key participants. Attendees will be requested to sign a register and to comply with NASA security requirements, including the presentation of a valid picture ID, before receiving an access badge. Foreign nationals attending this meeting will be required to provide a copy of their passport, visa, or green card in addition to providing the following information no less than 10 working days prior to the meeting: Full name; gender; date/place of birth; citizenship; visa/green card information (number, type, expiration date); passport information (number, country, expiration date); employer/affiliation information (name of institution, address, country, telephone); title/position of attendee. To expedite admittance, attendees with U.S. citizenship can provide identifying information 3 working days in advance by contacting Evelyn Diaz via e-mail at evelyn.diaz-1@nasa.gov or by telephone at (202) 358-0728.

Dated: March 26, 2010.
P. Diane Rausch,
Advisory Committee Management Officer, National Aeronautics and Space Administration.

[FR Doc. 2010-7400 Filed 3-31-10; 8:45 am]

BILLING CODE P